DEPARTMENT OF STATE

[Public Notice: 10728]

60-Day Notice of Proposed Information Collection: Application for the Permanent Export, Temporary Export, Temporary Import, or Brokering of Defense Articles, Defense Services, and Related Technical Data

ACTION: Notice of request for public comment.

SUMMARY: The Department of State is seeking Office of Management and Budget (OMB) approval for the information collection described below. In accordance with the Paperwork Reduction Act of 1995, we are requesting comments on this collection from all interested individuals and organizations. The purpose of this notice is to allow 60 days for public comment preceding submission of the collection to OMB.

DATES: The Department will accept comments from the public up to June 18, 2019.

ADDRESSES: You may submit comments by any of the following methods:

• Web: Persons with access to the internet may comment on this notice by going to www.Regulations.gov. You can search for the document by entering “Docket Number: DOS-2019-0005” in the Search field. Then click the “Comment Now” button and complete the comment form.

• Email: DDTCPublicComments@state.gov.

• Regular Mail: Send written comments to: Directorate of Defense Trade Controls, Attn: Andrea Battista, 2401 E St. NW, Suite H-1205, Washington, DC 20522-0112

You must include the subject (PRA 60 Day Comment), information collection title (Application for the Permanent Export, Temporary Export, Temporary Import, or Brokering of Defense Articles, Defense Services, and Related Technical Data), and OMB control number (1405-XXXX) in any correspondence.

FOR FURTHER INFORMATION CONTACT: Direct requests for additional information regarding this collection to Andrea Battista, who may be reached at BattistaAL@state.gov or 202-663-3136.

SUPPLEMENTARY INFORMATION:

• Title of Information Collection: Application for the Permanent Export, Temporary Export, Temporary Import, or Brokering of Defense Articles, Defense Services, and Related Technical Data.

• OMB Control Number: 1405-XXXX.

• Type of Request: New Collection.

• Originating Office: Directorate of Defense Trade Controls (DDTC).

• Form Number: DS-7788.

• Respondents: Respondents are any person/s who engages in the United States in the business of exporting, temporarily importing, or brokering defense articles or defense services.

• Estimated Number of Respondents: 4,000.

• Estimated Number of Responses: 40,000.

• Average Time per Response: 1 hours.

• Total Estimated Burden Time: 40,000 hours.

• Frequency: On occasion.

• Obligation to Respond: Required to Obtain or Retain a Benefit.

We are soliciting public comments to permit the Department to:

• Evaluate whether the proposed information collection is necessary for the proper functions of the Department.

• Evaluate the accuracy of our estimate of the time and cost burden for this proposed collection, including the validity of the methodology and assumptions used.

• Enhance the quality, utility, and clarity of the information to be collected.

• Minimize the reporting burden on those who are to respond, including the use of automated collection techniques or other forms of information technology.

Please note that comments submitted in response to this Notice are public record. Before including any detailed personal information, you should be aware that your comments as submitted, including your personal information, will be available for public review.

Abstract of Proposed Collection

This information collection is pursuant to ITAR parts 120—130 which set forth DDTC's licensing and agreements guidelines and requirements. This collection will make applicant submissions available via an online case management system. DDTC will utilize the collected information to fulfill its statutorily mandated function of reviewing and adjudicating requests to export or temporarily import defense articles, defense services, and related technical data. Upon approval and implementation of the DS-7788 (1405-XXXX), the Department will discontinue the use of the following forms and associated Information Collections as the DS-7788 consolidates the existing DDTC Licensing Forms into one single form; DSP-5 (1405-0003), DSP-61 (1405-0013), DSP-85 (1405-0022), DSP-73 (1405-0023), DSP-6, 62, & 74 (1405-0092), DS-6004 (1405-0173), DS-4294 (1405-0142), 1405-0093 (no form).

Methodology

License and other authorization application submissions are made via a completed DS-7788, which may be accessed from DDTC's website and submitted electronically.

Anthony M. Dearth,
Chief of Staff, Directorate of Defense Trade Controls, U.S. Department of State.

[FR Doc. 2019-07889 Filed 4-18-19; 8:45 am]

BILLING CODE 4710-25-P